DEPARTMENT OF TRANSPORTATION

Surface Transportation Board

[STB Finance Docket No. 34040]

Riverview Trenton Railroad Company—Petition for Exemption From 49 U.S.C. 10901 To Acquire and Operate a Rail Line in Wayne County, MI

Pursuant to 49 U.S.C. 10502, the Surface Transportation Board (Board) is granting an exemption from the licensing provisions of 49 U.S.C. 10901 to the Riverview Trenton Railroad Company (RTR) to allow RTR to begin operation as a new railroad over 1.45 miles of track located on a site formerly owned by the McLouth Steel Company in the towns of Riverview and Trenton in Wayne County, Michigan. On this site, RTR plans to establish an intermodal terminal involving the interchange of rail, motor, and possibly at some undetermined future date, barge traffic. RTR also plans to transport traffic for the Detroit Steel Center, a steel mini-mill operating on an adjacent site. RTR seeks to interchange rail cars with line haul carriers operating adjacent to RTR.

In granting this exemption, the Board has analyzed a substantial record generated by RTR and opponents of the exemption. The analysis appears in a decision that is being issued simultaneously with the publication of this notice. That decision subjects RTR's project to comprehensive environmental, monitoring, and reporting conditions.

The decision is available on the Board's Web site at www.stb.dot.gov.

Decided: May 9, 2003.
By the Board, Chairman Nober and Commissioner Morgan.
Vernon A. Williams,
Secretary.

[FR Doc. 03-12144 Filed 5-14-03; 8:45 am]

BILLING CODE 4915-00-P